SMALL BUSINESS ADMINISTRATION

13 CFR Part 121

RIN 3245-AE78

Small Business Size Standards; Testing Laboratories

AGENCY: Small Business Administration (SBA).

ACTION: Notice of proposed rule; notice of reopening of the comment period.

SUMMARY: The proposed rule proposes to increase the size standard for Testing Laboratories from $6 million to $10 million under the North American Industry Classification System (NAICS) 541380. The proposed revision is being made to better define the size of businesses in this industry that SBA believes should be eligible for Federal small business assistance programs. The proposed rule was published on April 9, 2002, 67 FR 17020. The comment period closed on June 10, 2002. We are reopening the comment period until September 30, 2002, because the SBA believes that affected businesses need more time to adequately respond.

DATES: The comment date for the proposed rule on the Testing Laboratories industry size standard is reopened through September 30, 2002.

ADDRESSES: Send comments to Gary M. Jackson, Assistant Administrator for Size Standards, U.S. Small Business Administration, 409 Third St., SW., Mail Code 6530, Washington, DC 20416; via e-mail to SIZESTANDARDS@sba.gov; or via facsimile at (202) 205-6390. Upon request, SBA will make all public comments available.

Dated: August 27, 2002.
Fred C. Armendariz,
Associate Deputy Administrator for Government Contracting and Business Development.

[FR Doc. 02-22651 Filed 9-5-02; 8:45 am]

BILLING CODE 8025-01-P